DEPARTMENT OF DEFENSE

Department of the Navy

Notice of Availability of Government-Owned Inventions; Available for Licensing

AGENCY: Department of the Navy, DoD.

ACTION: Notice.

SUMMARY: The Department of the Navy (DoN) announces the availability of the inventions listed below, assigned to the United States Government, as represented by the Secretary of the Navy, for domestic and foreign licensing by the Department of the Navy.

ADDRESSES: Requests for copies of the patents cited should be directed to Naval Surface Warfare Center, Crane Div, Code OOL, Bldg 2, 300 Highway 361, Crane, IN 47522-5001.

FOR FURTHER INFORMATION CONTACT: Mr. Christopher Monsey, Naval Surface Warfare Center, Crane Div, Code OOL, Bldg 2, 300 Highway 361, Crane, IN 47522-5001, Email Christopher.Monsey@navy.mil.

SUPPLEMENTARY INFORMATION: The following patents are available for licensing: Patent No. 9,685,231 (Navy Case No. 103033): IRREPRODUCIBLE AND RE-EMERGENT UNIQUE STRUCTURE OR PATTERN IDENTIFIER MANUFACTURING AND DETECTION METHOD, SYSTEM, AND APPARATUS//Patent No. 9,684,025 (Navy Case No. 103032): DUT CONTINUITY TEST WITH ONLY DIGITAL IO STRUCTURES APPARATUS AND METHODS ASSOCIATED THEREOF//Patent No. 9,683,514 (Navy Case No. 102781): HIGH EFFICIENCY COMBUSTOR AND CLOSED-CYCLE HEAT ENGINE INTERFACE//Patent No. 9,669,539 (Navy Case No. 103113): MAGNETIC DRILL SYSTEM//and Patent No. 9,680,561 (Navy Case No. 200235): SITUATIONAL AWARENESS AND POSITION INFORMATION FOR SATELLITE COMMUNICATION TERMINALS.

Authority: 35 U.S.C. 207, 37 CFR part 404.

Dated: August 30, 2017.
A.M. Nichols,
Lieutenant Commander, Judge Advocate General's Corps, U.S. Navy, Federal Register Liaison Officer.

[FR Doc. 2017-18915 Filed 9-5-17; 8:45 am]

BILLING CODE 3810-FF-P